DEPARTMENT OF ENERGY

Federal Energy Regulatory Commission

[Docket No. EL06-61-000]

Associated Electric Cooperative, Inc., Complainant v. Southwest Power Pool, Inc., Respondent; Notice of Complaint

March 22, 2006.

Take notice that on March 21, 2006, Associated Electric Cooperative, Inc. (Associated Electric) filed a Complaint against Southwest Power Pool, Inc. (SPP), pursuant to section 206 of the Federal Power Act, alleging that SPP violated its OATT by impermissibly granting a request by American Electric Power Service Corporation, as agent for the subsidiaries of the American Electric Power Company, Inc. d/b/a/ AEPM, for 250 megawatts of long-term firm point-to-point transmission service from the Union Electric Company d/b/a AmerenUE system to the Central and South West Services, Inc. system without determining whether there was Available Flowgate Capacity on the SPP transmission system and neighboring transmission system.

Associated Electric certifies that copies of the complaint were served on the contacts for SPP as well as AEPM as listed on the Commission's Corporate Officials List.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on April 10, 2006.

Magalie R. Salas,
Secretary.

[FR Doc. E6-4450 Filed 3-27-06; 8:45 am]

BILLING CODE 6717-01-P